DEPARTMENT OF COMMERCE

International Trade Administration

Exporters' Textile Advisory Committee

ACTION: Notice.

SUMMARY: Renewal of the Exporters' Textile Advisory Committee (ETAC): The ETAC is renewed for the period October 1, 2008 - September 30, 2010.

FOR FURTHER INFORMATION CONTACT: Janet E. Heinzen, Acting Deputy Assistant Secretary for Textiles and Apparel, U.S. Department of Commerce, 14th and Constitution Avenue, NW, Room 3100, Washington, DC 20230 telephone: (202) 482-3737, e-mail: matt.priest@mail.doc.gov.

SUPPLEMENTARYINFORMATION: In accordance with the provisions of the Federal Advisory Committee Act, 5 U.S.C. App. 2, and the General Services Administration (GSA) rule on Federal Advisory Committee Management, 41 CFR 102-3.65, and after consultation with GSA, the Secretary of Commerce has determined that the renewal of the Exporters' Textile Advisory Committee is in the public interest in connection with the performance of duties imposed on the Department by law.

The Committee shall provide advice and guidance to Department officials on the identification and surmounting of barriers to the expansion of textile exports, and on methods of encouraging textile firms to participate in export expansion.

The Committee shall consist of approximately 40 members appointed by the Secretary of Commerce to ensure a balanced representation of textile and apparel products. Representatives of small, medium and large firms with broad geographical distribution in exporting shall be included on the Committee.

The Committee shall function solely as an advisory body in compliance with the provisions of the Federal Advisory Committee Act.

Dated: December 2, 2008.

Janet E. Heinzen,
Acting Deputy Assistant Secretary for Textiles and Apparel.

[FR Doc. E8-28980 Filed 12-5-08; 8:45 am]

BILLING CODE 3510-DS